DEPARTMENT OF THE INTERIOR

Bureau of Land Management

[BLM_HQ-FRN_MO4500183366]

Establishment and Call for Nominations for the National Advisory Committee for Implementation of the Bureau of Land Management Public Lands Rule

AGENCY: Bureau of Land Management, Interior.

ACTION: Notice.

SUMMARY: The Bureau of Land Management (BLM) is publishing this notice in accordance with the Federal Land Policy and Management Act (FLPMA), as amended, and the Federal Advisory Committee Act. The BLM gives notice that the Secretary of the Interior is establishing the National Advisory Committee for Implementation of the BLM Public Lands Rule (Committee) and is seeking nominations for individuals to be considered as Committee members and alternate members.

DATES: Comments regarding the establishment of this Committee must be submitted no later than November 4, 2024. All nominations must be received no later than November 18, 2024.

ADDRESSES: Comments regarding the establishment of the Committee and nominations for the Committee should be sent to the BLM office listed in the FOR FURTHER INFORMATION CONTACT section of this notice.

FOR FURTHER INFORMATION CONTACT: Carrie Richardson, National Advisory Committee Coordinator, Bureau of Land Management, 1849 C Street NW, Washington, DC 20240; phone: (202) 742-0625, email: crichardson@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Committee is established in accordance with section 309 of FLPMA, as amended (43 U.S.C. 1739). The BLM is subject to standards and procedures for the creation, operation, and termination of BLM resource advisory councils at 43 CFR subpart 1784. The Council will not exceed 15 discretionary primary members and up to 15 alternate members to be appointed by the Secretary of the Interior as follows:

a. Two representatives of State governments;

b. One representative of local governments;

c. Two representatives of Tribal governments;

d. Two representatives of the public at large;

e. At least one representative of the science community, including archaeological or historical interests;

f. At least two representatives of non-governmental organizations specializing in environmental, conservation, or watershed interests; recreation interests; or hunting and fishing interests;

g. At least one representative of energy or mineral development;

h. At least one representative of Federal grazing permit holders or other permittees; and

i. At least one representative of commercial recreation activities.

Members will be appointed to the Committee to serve 2-year terms.

Nominating Potential Members: Nominations should include a resume providing an adequate description of the nominee's qualifications, including information that would enable the Department of the Interior to make an informed decision regarding the membership requirements of the Committee and permit the Department of the Interior to contact a potential member. Nominees are strongly encouraged to include supporting letters from employers, associations, professional organizations, and/or other organizations that indicate support by a meaningful constituency for the nominee. Please indicate any BLM permits, leases, or licenses that you hold personally or are held by your employer. Members of the Committee serve without compensation. However, while away from their homes or regular places of business, members engaged in Committee business may be allowed travel expenses, including per diem in lieu of subsistence, as authorized by 5 U.S.C. 5703, in the same manner as persons employed intermittently in Federal Government service.

The Committee will meet approximately 2-4 times per year, and at such other times as designated by the DFO.

Simultaneous with this notice, the BLM will issue a press release providing additional information for submitting nominations.

Public Disclosure of Comments: Before including your address, phone number, email address, or other personally identifiable information (PII) in your comment, you should be aware that your entire comment—including your PII—may be made publicly available at any time. While you may ask us in your comment to withhold your PII from public review, we cannot guarantee that we will be able to do so.

Certification Statement: I hereby certify that the National Advisory Committee for Implementation of the Bureau of Land Management Public Lands Rule, is necessary, in the public interest, and is in connection with the performance of duties imposed on the Department of the Interior by the Bureau of Land Management Federal Land Policy and Management Act (43 U.S.C. 1739), and other statutes relating to the administration of the Bureau of Land Management.

(Authority: 43 CFR 1784.1-1)

Deb Haaland,
Secretary of the Interior.

[FR Doc. 2024-24131 Filed 10-17-24; 8:45 am]

BILLING CODE 4331-27-P